DEPARTMENT OF INTERIOR

National Park Service

Final Environmental Impact Statement on Nabesna Off-Road Vehicle Management Plan, Wrangell-St. Elias National Park and Preserve

AGENCY: National Park Service, Interior.

ACTION: Notice of Availability.

SUMMARY: Pursuant to the National Environmental Policy Act (NEPA) of 1969, 42 U.S.C. 4332(2)(C) the National Park Service (NPS) announces the availability of a Final Environmental Impact Statement (FEIS) on Off-Road Vehicle Management in the Nabesna District of Wrangell-St. Elias National Park and Preserve. The FEIS evaluates the environmental impacts of a preferred alternative and four action alternatives for management of off-road vehicles in the Nabesna District. The purpose is to consider opportunities for appropriate and reasonable access to wilderness and backcountry recreational activities, which also accommodates subsistence and access to inholdings; while protecting scenic quality, fish and wildlife habitat, and other park resource values. A no action alternative is also evaluated. This notice officially begins the 30-day waiting period before the Record of Decision can be issued.

ADDRESSES: Copies of the FEIS will be available for public review at http://parkplanning.nps.gov/wrst. Hard copies are available at park headquarters, located at Milepost 106.8 on the Richardson Highway, or may be requested from Bruce Rogers, Project Manager, Wrangell-St. Elias National Park and Preserve, PO Box 439, Copper Center, Alaska 99573.

SUPPLEMENTARY INFORMATION: This FEIS evaluates the impacts of a range of alternatives for managing off-road vehicles (ORVs) for recreational and subsistence use in the Nabesna District of Wrangell-St. Elias National Park and Preserve. The nine trails under evaluation were in existence at the time the 13.2-million-acre park and preserve was established in 1980. The use of ORVs was determined to be traditionally employed for subsistence activities in the 1986 General Management Plan. Beginning in 1983, the park issued permits for recreational ORV use of these established trails, initially in accordance with 36 CFR 13.14(c) which was replaced by 43 CFR 36.11(g)(2) in 1986. The park issues 200 recreational ORV permits per year on average. The trails also provide for subsistence ORV use and access to inholdings. On June 29, 2006, the National Parks Conservation Association, Alaska Center for the Environment, and The Wilderness Society (Plantiffs) filed a lawsuit against NPS in the United States District Court for the District of Alaska regarding recreational ORV use on the nine trails that are the subject of this EIS. The plaintiffs challenged the NPS issuance of recreational ORV permits asserting that NPS failed to make the required finding that recreational ORV use is compatible with the purposes and values of the Park and Preserve. They also claimed that the NPS failed to prepare an environmental analysis of recreational ORV use as required by NEPA.

In the May 15, 2007, settlement agreement, NPS agreed to endeavor to complete an EIS, Record of Decision (ROD) and compatibility determination by December 31, 2010 (this has been extended to December 31, 2011), during which time recreational use of ORVs on the Suslota Lake Trail, Tanada Lake Trail, and a portion of the Copper Lake Trail is permitted only when the ground is frozen.

A Draft Environmental Impact Statement (DEIS) was published in August 2010 and made available for a 90-day public comment period. During the 90-day public comment period, five public meetings were held in Fairbanks, Anchorage, Tok, Slana, and Copper Center, Alaska. The purpose of the public meetings was to provide information on the DEIS, answer questions, and facilitate public comment on the document. The NPS received 153 comment letters from various agencies, organizations, and individuals. In response to public comment, the FEIS analyzes a sixth NPS preferred alternative that combines elements of Alternatives 4 and 5 from the DEIS. Additionally, the FEIS responds to substantive comments in Chapter 5 and numerous changes were made to the DEIS as a result of public comment. These changes are documented in the FEIS.

Alternative 1 evaluates the impacts of no action and describes conditions under the lawsuit settlement. Recreational ORV use would be permitted on all trails except Suslota, Tanada Lake, or Copper Lake trails, until the ground is frozen. There would be no change to subsistence ORV use and no trail improvements.

Alternative 2 would permit recreational ORV use on all nine trails. There would be no change to subsistence ORV use and no trail improvements.

Alternative 3 would prohibit recreational ORV use. Subsistence ORV use would continue, and some trail improvements would be made. Trail conditions would be monitored, and adaptive management steps would be taken to prevent further resource degradation.

Alternative 4 would permit recreational ORV use on designated trails in the preserve (Caribou Creek, Lost Creek, Trail Creek, Soda Lake, Reeve Field) once improvements are made, but not in the park (Tanada Lake, Copper Lake, Boomerang). All trails (except Suslota) would be improved to at least a maintainable condition through trail hardening, tread improvement, or constructed re-routes. Subsistence ORV use would continue subject to monitoring and management activities in the same manners as alternative 3.

Alternative 5 would permit recreational ORV use on all nine trails. All trails (except Suslota) would be improved to at least a maintainable condition as under alternative 4. Until improved, recreational ORV use would not be permitted on trails with the most resource degradation (Tanada Lake, Suslota, and Copper Lake) and subsistence ORV use would continue to be subject to monitoring and adaptive management steps in the same manners as alternative 3, and would be confined to trails in park wilderness.

Alternative 6 is the NPS preferred alternative. All trails would be improved to at least a maintainable condition. After trail improvement, recreational ORV use would be permitted on trails in the national preserve (Suslota, Caribou Creek, Trail Creek, Lost Creek, Soda Lake, and Reeve Field) but not on trails in the national park (Boomerang, Tanada Lake, Copper Lake). Subsistence ORV use would continue to be subject to monitoring and adaptive management steps in the same manners as alternative 3 and would be confined to designated trails in park wilderness.

FOR FURTHER INFORMATION CONTACT: Bruce Rogers, Project Manager, Wrangell-St. Elias National Park and Preserve, PO Box 439, Copper Center, Alaska 99573. Telephone: 907-822-7276.

Sue E. Masica,
Regional Director, Alaska.

[FR Doc. 2011-21566 Filed 8-22-11; 8:45 am]

BILLING CODE 4310-HC-P